SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before May 6, 2011.

ADDRESSES: Send all comments regarding whether this information collection is necessary for the proper performance of the function of the agency, whether the burden estimates are accurate, and if there are ways to minimize the estimated burden and enhance the quality of the collection, to Barbara Brannan, Management Analyst, Office of Surety Guarantees, Small Business Administration, 409 3rd Street, 8th Floor, Washington, DC 20416.

FOR FURTHER INFORMATION CONTACT: Barbara Brannan, Office of Surety Guarantees, 202-205-6545, Barbara.brannan@sba.gov. Curtis B. Rich, Management Analyst, 202-205-7030 curtis.rich@sba.gov.

SUPPLEMENTARY INFORMATION:

SBA's Surety Bond Guarantee (SBG) Program was established to encourage Surety Companies to provide bonding for small contractors. The information collected on these forms is used to evaluate the eligibility of small contractors for the SBG Program.

Title: “Surety Bond Guarantee Assistance.”

Description of Respondents: Surety Companies.

Form Number: 990, 991, 994, 994B, 994F, 994H.

Annual Responses: 17,965.

Annual Burden: 1,959.

Jacqueline White,
Chief, Administrative Information Branch.

[FR Doc. 2011-5042 Filed 3-4-11; 8:45 am]

BILLING CODE 8025-01-P